DEPARTMENT OF COMMERCE

International Trade Administration

[A-549-822]

Certain Frozen Warmwater Shrimp From Thailand: Final Results and Final Partial Rescission of Antidumping Duty Administrative Review

AGENCY: Import Administration, International Trade Administration, Department of Commerce.

SUMMARY: On March 6, 2008, the Department of Commerce (the Department) published the preliminary results of the administrative review of the antidumping duty order on certain frozen warmwater shrimp (shrimp) from Thailand. This review covers 45 ¹ producers/exporters of the subject merchandise to the United States. The period of review (POR) is February 1, 2006, through January 31, 2007. We are rescinding the review with respect to three companies because these companies had no shipments of subject merchandise during the POR.

¹ This figure does not include those companies for which the Department is rescinding the administrative review.

Based on our analysis of the comments received, we have made certain changes in the margin calculations. Therefore, the final results differ from the preliminary results. The final weighted-average dumping margins for the reviewed firms are listed below in the section entitled “Final Results of Review.”

EFFECTIVE DATE: August 29, 2008.

FOR FURTHER INFORMATION CONTACT: Elizabeth Eastwood, AD/CVD Operations, Office 2, Import Administration, International Trade Administration, U.S. Department of Commerce, 14th Street and Constitution Avenue, NW., Washington, DC 20230; telephone (202) 482-3874.

SUPPLEMENTARY INFORMATION:

Background

This review covers 45 producers/exporters.² The respondents which the Department selected for individual examination are Andaman Seafood Co., Ltd., Chanthaburi Frozen Food Co., Ltd. (CFF), Chanthaburi Seafoods Co., Ltd., Euro-Asian International Seafoods Co., Ltd., Intersia Foods Co., Ltd. (Intersia Foods) (formerly Y2K Frozen Foods Co., Ltd. (Y2K Frozen Foods)), Phattana Seafood Co., Ltd., Phattana Frozen Food Co., Ltd., S.C.C. Frozen Seafood Co., Ltd., Seawealth Frozen Food Co., Ltd., Thailand Fishery Cold Storage Public Co., Ltd., Thai International Seafoods Co., Ltd., and Wales & Co. Universe Limited (collectively “the Rubicon Group”); Pakfood Public Company Limited and its affiliated subsidiaries, Asia Pacific (Thailand) Company Limited, Chaophraya Cold Storage Company Limited, Okeanos Company Limited, and Takzin Samut Company Limited (collectively “Pakfood”); Thai I-Mei Frozen Foods Co., Ltd. (Thai I-Mei); and Thai Union Frozen Products Public Co., Ltd. (TUF), Thai Union Seafood Co., Ltd. (TUS) (collectively “Thai Union”). The respondents which were not selected for individual examination are listed in the “Final Results of Review” section of this notice.

² This figure does not include those companies for which the Department is rescinding the administrative review.

On March 6, 2008, the Department published in the Federal Register the preliminary results of administrative review of the antidumping duty order on shrimp from Thailand. See Certain Frozen Warmwater Shrimp from Thailand: Preliminary Results and Preliminary Partial Rescission of Antidumping Duty Administrative Review, 73 FR 12089 (Mar. 6, 2008) (Preliminary Results).

We invited parties to comment on our preliminary results. In April 2008, we received case briefs from the petitioner (i.e., the Ad Hoc Shrimp Trade Action Committee), the Louisiana Shrimp Association (LSA), Pakfood, the Rubicon Group, Thai I-Mei, and Thai Union. Also in April 2008, we received rebuttal briefs from each of these parties except the LSA. We also received comments on the preliminary results from the following interested parties: Asian Seafoods Coldstorage Public Co., Ltd., Kitchens of the Oceans (Thailand), Ltd., The Siam Union Frozen Foods Co., Ltd., Thai Royal Frozen Food Co., Ltd., The Union Frozen Products Co., Ltd., Good Fortune Cold Storage Co., Ltd., Kingfisher Holdings Ltd., Transamut Food Co., Ltd., Seafresh Industry Public Co., Ltd., and Tey Seng Cold Storage Co., Ltd. The Department convened a hearing in this review on June 18, 2008.

The Department has conducted this administrative review in accordance with section 751 of the Tariff Act of 1930, as amended (the Act).

Scope of the Order

The scope of this order includes certain frozen warmwater shrimp and prawns, whether wild-caught (ocean harvested) or farm-raised (produced by aquaculture), head-on or head-off, shell-on or peeled, tail-on or tail-off, ³ deveined or not deveined, cooked or raw, or otherwise processed in frozen form.

³ “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and, (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and, (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Period of Review

The POR is February 1, 2006, through January 31, 2007.

Partial Rescission of Review

In February 2007, the Department received timely requests, in accordance with 19 CFR 351.213(b)(1), from the petitioner and the LSA to conduct a review of Lucky Union Foods Co., Ltd. (Lucky Union), Songkla Canning PCL (Songkla), and Thai Union Manufacturing Co., Ltd. (Thai Union Manufacturing), which are affiliated with Thai Union, a respondent in this review. The Department initiated a review of these three companies and requested that they supply data on the quantity and value of their exports of shrimp during the POR. On April 23, 2007, Thai Union submitted a response to the Department's quantity and value (Q&V) questionnaire, in which it indicated that only two of its companies, TUF and TUS, exported subject merchandise to the United States during the POR, while Lucky Union, Songkla, and Thai Union Manufacturing did not produce or export frozen shrimp to the United States during the POR. We confirmed this information at Thai Union's sales verification. See Memorandum to the File from Irina Itkin and Brianne Riker entitled, “Verification of the Sales Response of Thai Union Frozen Products Public Co., Ltd./Thai Union Seafood Co., Ltd. in the Antidumping Administrative Review of Certain Frozen Warmwater Shrimp from Thailand” (“Thai Union Verification Report”), dated February 13, 2008, at 3 and 10. Therefore, because Lucky Union, Songkla, and Thai Union Manufacturing had no shipments of subject merchandise to the United States during the POR, in accordance with 19 CFR 351.213(d)(3), and consistent with the Department's practice, we are rescinding our review with respect to them. See, e.g., Certain Frozen Warmwater Shrimp from Thailand: Final Results and Final Partial Rescission of Antidumping Duty Administrative Review, 72 FR 52065, 52067 (Sept. 12, 2007) (04-06 Thai Shrimp Final Results); Certain Steel Concrete Reinforcing Bars From Turkey; Final Results, Rescission of Antidumping Duty Administrative Review in Part, and Determination To Revoke in Part, 70 FR 67665, 67666 (Nov. 8, 2005).

Successor-in-Interest

As noted in the Preliminary Results, in April 2007 the Rubicon Group informed the Department that its affiliated producer Y2K Frozen Foods is now doing business under the name Intersia Foods. Based on the Rubicon Group's submissions addressing the four factors with respect to this change in corporate structure (i.e., management, production facilities for the subject merchandise, supplier relationships, and customer base),⁴ in the preliminary results we found that this company's organizational structure, management, production facilities, supplier relationships, and customers have remained essentially unchanged. Further, we found that Intersia Foods operates as the same business entity as Y2K Frozen Foods with respect to the production and sale of shrimp. Therefore, we preliminarily determined that Intersia Foods is the successor-in-interest to Y2K Frozen Foods. See Preliminary Results, 73 FR at 12090.

⁴ See Notice of Initiation and Preliminary Results of Antidumping Duty Changed Circumstances Review: Certain Softwood Lumber Products from Canada, 70 FR 50299, 50300-01 (Aug. 26, 2005) (setting forth the four factors to be considered for successorship determinations), unchanged in Notice of Final Results of Antidumping Duty Changed Circumstances Review: Certain Softwood Lumber Products from Canada, 70 FR 59721 (Oct. 13, 2005).

Since the preliminary results, no party to this proceeding has commented on this issue, and we have received no new information with respect to this issue. As a result, we continue to find that Intersia Foods is the successor-in-interest to Y2K Frozen Foods.

Application of Weighted-Average Margin to I.T. Foods

In its April 24, 2007, response to the Q&V questionnaire, I.T. Foods claimed that it had no shipments or entries of subject merchandise into the United States during the POR. However, when we attempted to confirm this claim with data obtained from CBP, we found that there were entries of merchandise into the United States produced and/or exported by I.T. Foods that appeared to be within the scope of the antidumping duty order. See Memorandum to the File from Brianne Riker entitled, “2006-2007 Administrative Review of Certain Frozen Warmwater Shrimp from Thailand: Entry Documents from U.S. Customs and Border Protection,” dated June 12, 2007. Therefore, on July 16, 2007, we requested information from I.T. Foods to explain this discrepancy.

On August 16, 2007, I.T. Foods provided information to the Department indicating that it did, in fact, have reportable transactions of subject merchandise during the POR of “tiny shrimp.”

See Letter to the Department from I.T. Foods, dated August 16, 2007. Therefore, we did not rescind the administrative review with respect to this company and are assigning to it the weighted-average margin calculated for the companies selected for individual examination because, based on its response: (1) The discrepancy between the Q&V questionnaire response and the CBP data appeared to be an inadvertent oversight; (2) the quantity of the exports in question was so small that it would not have had an impact on our selection of respondents; and (3) the company has been responsive to our requests for information. We will instruct CBP to assess antidumping duties on I.T. Foods' entries of subject merchandise at the weighted-average rate.

In addition, based on the information provided by I.T. Foods, we also have determined certain other merchandise produced/exported by I.T. Foods (i.e., “shrimp balls”) that entered the United States during the POR is not subject to the scope of the order because the shrimp content of this product is limited to shrimp flavoring. See Letter to the Department from I.T. Foods, dated August 16, 2007. Therefore, we will instruct CBP to liquidate I.T. Foods' entries of non-subject merchandise (i.e., “shrimp balls”) without regard to antidumping duty liability.

Facts Available

In the preliminary results, we determined that, in accordance with section 776(a)(2)(A) of the Act, the use of facts available was appropriate as the basis for the dumping margins for certain producer/exporters. See Preliminary Results, 73 FR at 12091-92. Section 776(a) of the Act provides that the Department will apply “facts otherwise available” if, inter alia, necessary information is not available on the record or an interested party: (1) Withholds information that has been requested by the Department; (2) fails to provide such information within the deadlines established, or in the form or manner requested by the Department; (3) significantly impedes a proceeding; or (4) provides such information, but the information cannot be verified.

A. Companies That Failed To Respond to the Q&V Questionnaire

In April 2007, the Department requested that all companies subject to the review respond to the Department's Q&V questionnaire for purposes of mandatory respondent selection. The original deadline to file a response was April 23, 2007. Of the 142 companies subject to this review, 60 companies did not respond to the Department's initial request for information. Subsequently in May and June 2007, the Department issued two letters to these companies affording them additional opportunities to submit a response to the Department's Q&V questionnaire. However, 12 of these companies also failed to respond to the Department's additional Q&V questionnaires.⁵ On July 19, 2007, the Department placed documentation on the record confirming delivery of the questionnaires to each company. See Memorandum to the File from Brianne Riker entitled, “Placing Delivery Information on the Record of the 2006-2007 Antidumping Duty Administrative Review on Certain Frozen Warmwater Shrimp from Thailand,” dated July 19, 2007. By failing to respond to the Department's Q&V questionnaire, these companies withheld requested information and significantly impeded the proceeding. Thus, pursuant to sections 776(a)(2)(A) and (C) of the Act, because these companies did not respond to the Department's questionnaire, the Department preliminarily found that the use of total facts available is warranted.

⁵ These companies are: Applied DB; Chonburi LC; Haitai Seafood Co., Ltd. (Haitai); High Way International Co., Ltd. (High Way International); Merkur Co., Ltd. (Merkur); Ming Chao Ind Thailand (Ming Chao); Nongmon SMJ Products (Nongmon); SCT Co., Ltd. (SCT); Search and Serve; Shianlin Bangkok Co., Ltd. (located at 159 Surawong Road, Suriyawong, Bangrak, Bangkok 10500 Thailand) (Shainlin Bangkok); Star Frozen Foods Co., Ltd. (Star Frozen Foods); and Wann Fisheries Co., Ltd. (Wann Fisheries).

By failing to respond to the Department's requests, the above-mentioned companies withheld requested information and significantly impeded the proceeding. Therefore, as in the preliminary results, the Department finds that the use of total facts available for Applied DB, Chonburi LC, Haitai, High Way International, Merkur, Ming Chao, Nongmon, SCT, Search and Serve, Shianlin Bangkok, Star Frozen Foods, and Wann Fisheries is appropriate pursuant to sections 776(a)(2)(A) and (C) of the Act. See Preliminary Results, 73 FR at 12091-92.

According to section 776(b) of the Act, if the Department finds that an interested party fails to cooperate by not acting to the best of its ability to comply with requests for information, the Department may use an inference that is adverse to the interests of that party in selecting from the facts otherwise available. See Notice of Final Results of Antidumping Duty Administrative Review: Stainless Steel Bar from India, 70 FR 54023, 54025-26 (Sep. 13, 2005); Notice of Final Determination of Sales at Less Than Fair Value and Final Negative Critical Circumstances: Carbon and Certain Alloy Steel Wire Rod from Brazil, 67 FR 55792, 55794-96 (Aug. 30, 2002). Adverse inferences are appropriate “to ensure that the party does not obtain a more favorable result by failing to cooperate than if it had cooperated fully.” See Statement of Administrative Action accompanying the Uruguay Round Agreements Act, H.R. Rep. No. 103-316, Vol. 1, at 870 (1994) (SAA), reprinted in 1994 U.S.C.C.A.N. 4040, 4198-99. Furthermore, “affirmative evidence of bad faith on the part of a respondent is not required before the Department may make an adverse inference.” See Antidumping Duties; Countervailing Duties; Final Rule, 62 FR 27296, 27340 (May 19, 1997); see also Nippon Steel Corp. v. United States, 337 F.3d 1373, 1382-83 (Fed. Cir. 2003) (Nippon). We find that Applied DB, Chonburi LC, Haitai, High Way International, Merkur, Ming Chao, Nongmon, SCT, Search and Serve, Shianlin Bangkok, Star Frozen Foods, and Wann Fisheries did not act to the best of their abilities in this proceeding, within the meaning of section 776(b) of the Act, because they failed to respond to the Department's requests for information and provide timely information. Therefore, an adverse inference is warranted in selecting from the facts otherwise available with respect to these companies. See Nippon, 337 F.3d at 1382-83.

Section 776(b) of the Act provides that the Department may use as adverse facts available (AFA) information derived from: (1) The petition; (2) the final determination in the investigation; (3) any previous review; or (4) any other information placed on the record.

The Department's practice, when selecting an AFA rate from among the possible sources of information, has been to ensure that the margin is sufficiently adverse “as to effectuate the statutory purposes of the adverse facts available rule to induce respondents to provide the Department with complete and accurate information in a timely manner.” See, e.g., 04-06 Thai Shrimp Final Results; Certain Steel Concrete Reinforcing Bars from Turkey; Final Results and Rescission of Antidumping Duty Administrative Review in Part, 71 FR 65082, 65084 (Nov. 7, 2006).

In order to ensure that the margin is sufficiently adverse so as to induce cooperation, we have assigned a rate of 57.64 percent, which is the highest rate alleged in the petition, as adjusted at the initiation of the less-than-fair-value (LTFV) investigation, to the non-responsive companies (i.e., Applied DB, Chonburi LC, Haitai, High Way International, Merkur, Ming Chao, Nongmon, SCT, Search and Serve, Shianlin Bangkok, Star Frozen Foods, and Wann Fisheries). See Notice of Initiation of Antidumping Duty Investigations: Certain Frozen and Canned Warmwater Shrimp From Brazil, Ecuador, India, Thailand, the People's Republic of China and the Socialist Republic of Vietnam, 69 FR 3876, 3881 (Jan. 27, 2004). The Department believes that this rate is sufficiently high as to effectuate the purpose of the facts available rule (i.e., we find that this rate is high enough to encourage participation in future segments of this proceeding in accordance with section 776(b) of the Act).

For the reasons stated in the Preliminary Results, we continue to find that the information upon which this margin is based has probative value and thus satisfies the corroboration requirements of section 776(c) of the Act. See Preliminary Results, 73 FR at 12092. See also Memorandum from Elizabeth Eastwood to the File, entitled “Corroboration of Adverse Facts Available Rate for the Final Preliminary Results in the 2006-2007 Antidumping Duty Administrative Review on Certain Frozen Warmwater Shrimp from Thailand,” dated August 25, 2008. We note that the company-specific margins calculated for the final results continue to corroborate this margin.

B. Thai Union

We preliminarily determined that it was appropriate to use facts available for certain of Thai Union's U.S. sales transactions which had not been reported in the U.S. sales listing: (1) Certain export price (EP) transactions and constructed export price (CEP) sales made from inventory; and (2) certain direct CEP transactions which were sold during the POR, but did not enter until after the POR. With respect to the sales described in (1) above, for purposes of the final results, we have continued to base the margin for these unreported sales on facts available because the information necessary to calculate a final dumping margin for these U.S. sales is not on the record of this review. With respect to certain direct CEP sales, as described in (2) above, we note that the Department's instructions in the original questionnaire differed from those issued in supplemental questionnaires with respect to a key reporting requirement, the universe of sales. Because these instructions appear to have confused the respondent, we have determined to rely on the direct CEP sales listing as submitted by Thai Union for purposes of these final results. Thus, application of facts available with respect to certain direct CEP sales is neither necessary nor warranted.

Regarding the unreported EP and CEP inventory sales, in the preliminary results, we determined the facts available margin using adverse inferences because we found that Thai Union failed to cooperate to the best of its ability in this review, within the meaning of section 776(b) of the Act. After considering the arguments raised by the parties on this issue, we are reversing our preliminary decision to base the margin for these unreported sales on AFA because: (1) the total value of the unreported sales is small; and (2) the Department was satisfied at verification that the universe of unreported sales was limited to those examined. As a result, we are now basing the final dumping margin for the remaining unreported sales upon facts available with no adverse inference. As facts available, we have used the weighted-average margin calculated for reported sales. For further discussion, see the Issues and Decision Memorandum (Decision Memo) accompanying this notice at Comments 13 and 14.

Duty Absorption

In the preliminary results, we found that antidumping duties have been absorbed by the Rubicon Group, Thai I-Mei, and Thai Union on all U.S. sales made through their affiliated importers of record. For the percentage of such sales, see Memoranda to the File from Kate Johnson and Rebecca Trainor entitled “Second Administrative Review of Certain Frozen Warmwater Shrimp from Thailand: Preliminary Results Margin Calculation for the Rubicon Group,” dated February, 28, 2008, at Attachment 2; “2006-2007 Administrative Review of Certain Frozen Warmwater Shrimp from Thailand: Preliminary Results Margin Calculation for Thai I-Mei Frozen Foods Co., Ltd” at Attachment 1; and Memorandum to the File from Brianne Riker, entitled “Calculations Performed for Thai Union Frozen Products Co., Ltd./Thai Union Seafood Co., Ltd. for the Preliminary Results of the 2006-2007 Antidumping Duty Administrative Review of Certain Frozen Warmwater Shrimp from Thailand,” dated February, 28, 2008, at Attachment 2. We have not received any further information regarding this issue for the final results. Therefore, for the final results, we continue to find that antidumping duties have been absorbed by the Rubicon Group, Thai I-Mei, and Thai Union on all U.S. sales made through their affiliated importers of record.

With respect to Pakfood, it did not sell subject merchandise in the United States through an affiliated importer. Therefore, it is not appropriate to make a duty-absorption determination in this segment of the proceeding within the meaning of section 751(a)(4) of the Act. See Agro Dutch Industries Ltd. v. United States, 508 F.3d 1024, 1033 (Fed. Cir. 2007).

Cost of Production

As discussed in the preliminary results, we conducted an investigation to determine whether Pakfood, the Rubicon Group, and Thai Union made comparison market sales of the foreign like product during the POR at prices below their costs of production (COPs) within the meaning of section 773(b)(1) of the Act. We performed the cost test for these final results following the same methodology as in the Preliminary Results.

We found 20 percent or more of each respondent's sales of a given product during the reporting period were at prices less than the weighted-average COP for this period. Thus, we determined that these below-cost sales were made in “substantial quantities” within an extended period of time and at prices which did not permit the recovery of all costs within a reasonable period of time in the normal course of trade. See sections 773(b)(2)(B)—(D) of the Act.

Therefore, for purposes of these final results, we found that Pakfood, Rubicon, and Thai Union made below-cost sales not in the ordinary course of trade. Consequently, we disregarded these sales for each respondent and used the remaining sales as the basis for determining normal value pursuant to section 773(b)(1) of the Act.

Analysis of Comments Received

All issues raised in the case briefs by parties to this administrative review, and to which we have responded, are listed in the Appendix to this notice and addressed in the Decision Memo, which is adopted by this notice. Parties can find a complete discussion of all issues raised in this review and the corresponding recommendations in this public memorandum, which is on file in the Central Records Unit, room 1117, of the main Department building.

In addition, a complete version of the Decision Memo can be accessed directly on the Web at http://ia.ita.doc.gov/frn/. The paper copy and electronic version of the Decision Memo are identical in content.

Changes Since the Preliminary Results

Based on our analysis of the comments received, we have made certain changes in the margin calculations. These changes are discussed in the relevant sections of the Decision Memo.

Final Results of Review

We determine that the following weighted-average percentage margins exist for the period February 1, 2006, through January 31, 2007:

Manufacturer/exporter | Percent margin
Pakfood Public Company Limited/Asia Pacific (Thailand) Company Limited/Chaophraya Cold Storage/Okeanos Company Limited/Takzin Samut Company Limited | 2.44
Andaman Seafood Co., Ltd./Chanthaburi Frozen Food Co., Ltd./Chanthaburi Seafoods Co., Ltd./Euro-Asian International Seafoods Co., Ltd./Intersia Foods Co., Ltd./Phattana Seafood Co., Ltd./Phattana Frozen Food Co., Ltd./S.C.C. Frozen Seafood Co., Ltd./Seawealth Frozen Food Co. Ltd./Thailand Fishery Cold Storage Public Co., Ltd./Thai International Seafoods Co., Ltd./Wales & Co. Universe Limited | 3.77
Thai I-Mei Frozen Foods Co., Ltd | 3.09
Thai Union Frozen Products Public Co., Ltd./Thai Union Seafood Co., Ltd | 2.85
Review-Specific Average Rate Applicable to the Following Companies: ⁶
Asian Seafoods Coldstorage Public Company Limited/Asian Seafoods Coldstorage (Suratthani) Co., Ltd./STC Foodpak Limited | 3.18
Charoen Pokphand Foods Public Company Limited/CP Merchandising Co., Ltd./Klang Co., Ltd./Seafoods Enterprise Co., Ltd./Thai Prawn Culture Center Co., Ltd. | 3.18
Crystal Frozen Foods Co., Ltd | 3.18
CY Frozen Co., Ltd | 3.18
Fortune Frozen Foods (Thailand) Co., Ltd | 3.18
Good Fortune Cold Storage Ltd | 3.18
Good Luck Product Co., Ltd | 3.18
Inter-Pacific Marine Products Co., Ltd | 3.18
I.T. Foods Industries Co., Ltd | 3.18
Kiang Huat Sea Gull Trading Frozen Food Public Company Limited | 3.18
Kingfisher Holdings Limited/KF Foods Limited | 3.18
Kitchens of the Ocean (Thailand) Co., Ltd | 3.18
Kongphop Frozen Foods Co., Ltd | 3.18
Marine Gold Products Ltd | 3.18
May Ao Co., Ltd./May Ao Foods Co., Ltd | 3.18
Narong Seafood Co., Ltd | 3.18
Ongkorn Cold Storage Co., Ltd./Thai-ger Marine Co., Ltd | 3.18
S&D Marine Products Co., Ltd | 3.18
Seafresh Industry Public Company Limited/Seafresh Fisheries | 3.18
Siam Intersea Co., Ltd | 3.18
SMP Food Product Co., Ltd | 3.18
Surapon Foods Public Co., Ltd./Surat Seafoods Co., Ltd | 3.18
Tey Seng Cold Storage Co., Ltd./Chaiwarut Co., Ltd | 3.18
Thai Royal Frozen Food Co., Ltd | 3.18
The Siam Union Frozen Foods Co., Ltd./Kosamut Frozen Foods Co., Ltd | 3.18
The Union Frozen Products Co., Ltd./Bright Sea Co., Ltd | 3.18
Transamut Food Co., Ltd | 3.18
Xian-Ning Seafood Co., Ltd | 3.18
Yeenin Frozen Foods Co., Ltd | 3.18
AFA Rate Applicable to the Following Companies:
Applied DB | 57.64
Chonburi LC | 57.64
Haitai Seafood Co., Ltd | 57.64
High Way International Co., Ltd | 57.64
Merkur Co., Ltd | 57.64
Ming Chao Ind Thailand | 57.64
Nongmon SMJ Products | 57.64
SCT Co., Ltd | 57.64
Search and Serve | 57.64
Shianlin Bangkok Co., Ltd. (located at 159 Surawong Road, Suriyawong, Bangrak, Bangkok 10500 Thailand) | 57.64
Star Frozen Foods Co., Ltd | 57.64
Wann Fisheries Co., Ltd | 57.64

Assessment

The Department shall determine, and CBP shall assess, antidumping duties on all appropriate entries. The Department ⁶intends to issue assessment instructions to CBP 15 days after the date of publication of these final results of review.

⁶ This rate is based on the weighted average of the margins calculated for those companies selected for individual examination, excluding de minimis margins or margins based entirely on AFA.

We will instruct CBP to assess antidumping duties on all appropriate entries covered by this review if any importer-specific assessment rate calculated in the final results of this review is above de minimis (i.e., at or above 0.50 percent). Pursuant to 19 CFR 351.212(b)(1), for all of Thai I-Mei's U.S. sales, as well as for certain of Pakfood's, the Rubicon Group's, and Thai Union's U.S. sales, because these companies reported the entered value, we have calculated importer-specific ad valorem duty assessment rates based on the ratio of the total amount of antidumping duties calculated for the examined sales to the total entered value of the sales for which entered value was reported. For Pakfood's, the Rubicon Group's, and Thai Union's U.S. sales without reported entered values, we have calculated importer-specific per-unit duty assessment rates by aggregating the total amount of antidumping duties calculated for the examined sales and dividing this amount by the total quantity of those sales. To determine whether the duty assessment rates are de minimis, in accordance with the requirement set forth in 19 CFR 351.106(c)(2), we have calculated importer-specific ad valorem ratios based on the estimated entered value.

For the responsive companies which were not selected for individual examination, we have calculated an assessment rate based on the weighted average of the cash deposit rates calculated for the companies selected for individual examination excluding any which are de minimis or determined entirely on AFA.

Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. This clarification will also apply to POR entries of subject merchandise produced by companies for which we are rescinding the review based on certifications of no shipments, because these companies certified that they made no POR shipments of subject merchandise for which they had knowledge of U.S. destination. In such instances, we will instruct CBP to liquidate unreviewed entries at the “all-others” rate established in the LTFV investigation if there is no rate for the intermediate company(ies) involved in the transaction.

Cash Deposit Requirements

Further, the following deposit requirements will be effective for all shipments of shrimp from Thailand entered, or withdrawn from warehouse, for consumption on or after the publication date of the final results of this administrative review, as provided for by section 751(a)(2)(C) of the Act: (1) The cash deposit rates for the reviewed companies will be the rates shown above; (2) for previously investigated companies not listed above, the cash deposit rate will continue to be the company-specific rate published for the most recent period; (3) if the exporter is not a firm covered in this review, or the LTFV investigation, but the manufacturer is, the cash deposit rate will be the rate established for the most recent period for the manufacturer of the merchandise; and (4) the cash deposit rate for all other manufacturers or exporters will continue to be 5.95 percent, the “all-others” rate established in the LTFV investigation. These deposit requirements shall remain in effect until further notice.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act.

Dated: August 25, 2008.
Stephen J. Claeys,
Acting Assistant Secretary for Import Administration.

Appendix—Issues in Decision Memorandum

General Issues

1. Offsets for Negative Margins

2. Classification of U.S. Warehousing Expenses as Movement or Selling Expenses

Company-Specific Issues

3. U.S. Sales for which Pakfood Public Company Ltd. (Pakfood) Did Not Report Entered Value

4. Universe of U.S. Sales for Pakfood

5. CEP Offset for Andaman Seafood Co., Ltd., Chanthaburi Frozen Food Co., Ltd., Chanthaburi Seafoods Co., Ltd., Euro-Asian International Seafoods Co., Ltd., Intersia Foods Co., Ltd., Phattana Seafood Co., Ltd., Phattana Frozen Food Co., Ltd., S.C.C. Frozen Seafood Co., Ltd., Seawealth Frozen Food Co., Ltd., Thailand Fishery Cold Storage Public Co., Ltd., Thai International Seafoods Co., Ltd., and Wales & Co. Universe Limited (collectively “the Rubicon Group”)

6. Certain Selling Expenses for the Rubicon Group

7. Certain Clerical Errors for the Rubicon Group

8. CEP Profit Calculation for Thai I-Mei Frozen Foods Co., Ltd. (Thai I-Mei)

9. CEP Offset for Thai I-Mei

10. Calculation of Assessment Rate for Thai I-Mei

11. Constructed Value (CV) Inventory Carrying Costs for Thai I-Mei

12. Universe of Reviewed U.S. Sales for Thai I-Mei

13. Application of Adverse Facts Available (AFA) for Thai Union Frozen Products Public Co., Ltd. (TUF), Thai Union Seafood Co., Ltd. (TUS), (collectively “Thai Union”) on Unreported CEP Sales

14. Application of AFA for Thai Union's Unreported EP Sales

15. Selection of the AFA Rate for Thai Union and the U.S. Sales Value to Which the AFA Rate Was Applied

16. CEP Offset for Thai Union

17. U.S. Warehousing Expenses for Thai Union

18. U.S. Freight Expenses for Thai Union

19. U.S. Discounts for Thai Union

20. Total Cost of Manufacturing Calculation for Thai Union

[FR Doc. E8-20165 Filed 8-28-08; 8:45 am]

BILLING CODE 3510-DS-P